COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List commodities and services to be furnished by nonprofit agencies employing persons who are blind or have other severe disabilities.

EFFECTIVE DATE: June 12, 2000.

ADDRESS: Committee for Purchase From People Who Are Blind or Severely Disabled, Crystal Gateway 3, Suite 310, 1215 Jefferson Davis Highway, Arlington, Virginia 22202-4302.

FOR FURTHER INFORMATION CONTACT: Louis R. Bartalot (703) 603-7740.

SUPPLEMENTARY INFORMATION: On October 8, 1999, February 4, and March 3, 17, 24, and 31, 2000, the Committee for Purchase From People Who Are Blind or Severely Disabled published notices (64 FR 54862 and 65 FR 5492, 11548, 14532, 15897, and 17255) of proposed additions to the Procurement List. After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities

Fossfill® Pillows

M.R. 770 (Standard Pillow)

M.R. 771 (Queen Pillow)

M.R. 772 (King Pillow)

First Aid Kit, Small Craft

6545-01-168-6893

First Aid Kit, Gun Crew

6545-00-920-7125

Medical Equipment Set, Ground Ambulance

6545-01-141-9476

Medical Equipment Set, Laboratory, Field

6545-01-191-8970

Medical Equipment Set, Trauma, Field

6545-01-191-8972

Medical Equipment Set, X-Ray, Field

6545-01-191-8971

Services

Acquisition & Distribution of AA-Cell Batteries, Tier AD

6135-00-643-1309

Defense Supply Center—Richmond

Richmond, Virginia

Base Supply Center, Operation of Individual Equipment Element Store and HAZMART

Little Rock Air Force Base, Arkansas

Eyewear Prescription Service at the following locations:

Department of Veterans Administration Medical Center Outpatient Clinic

3510 Augusta Road, Greenville, South Carolina

Department of Veterans Affairs Medical Center

6439 Garners Ferry Road, Columbia, South Carolina

Janitorial/Custodial for the following locations in Pasadena, California:

U.S. Court of Appeals

125 South Grand Avenue

Social Security Administration Building

104 Mentor Street

Janitorial/Custodial

Bureau of Reclamation, Farmington Construction Office (FCO), 2200 Bloomfield Highway, Farmington, New Mexico

Janitorial/Custodial

Veterans Affairs Outpatient Clinic, 3420 Veterans Circle, Beaumont, Texas

Janitorial/Custodial

U.S. Immigration & Naturalization Service, Institutional Hearing Program, 7405CI Highway 75 South, Huntsville, Texas

Janitorial/Custodial

Naval and Marine Corps Reserve Center, Fort Douglas, 116 Pollock Road, Salt Lake City, Utah

Janitorial/Grounds Maintenance

Federal Courthouse, Pocatello, Idaho

Operation of Individual Equipment Element Store

Eielson Air Force Base, Alaska

This action does not affect current contracts awarded prior to the effective date of this addition or options that may be exercised under those contracts.

Leon A. Wilson, Jr.,
Executive Director.

[FR Doc. 00-11994 Filed 5-11-00; 8:45 am]

BILLING CODE 6353-01-P